DEPARTMENT OF COMMERCE

National Institute of Standards and Technology

[Docket No. 160927891-6891-01]

Request for Comments on U.S. Technical Participation in the 15th Conference of the International Organization of Legal Metrology (OIML)

AGENCY: National Institute of Standards and Technology, Commerce.

ACTION: Notice; request for comments.

SUMMARY: The National Institute of Standards and Technology (NIST) seeks comments concerning U.S. technical participation in the 15th Conference of the International Organization of Legal Metrology (OIML) held in Strasbourg, France, Wednesday, October 19 through Thursday, October 20, 2016. This conference is held once every four years and was last held in 2012. Interested parties are requested to review and submit comments on the 16 OIML Recommendations and Documents on legal measuring instruments that will be presented for ratification by the Conference. Comments may also be submitted on other issues relevant to the Conference.

DATES: Written comments should be submitted to the NIST International Legal Metrology Program no later than Wednesday, October 12, 2016, at 5:00 p.m. Eastern Time. The 15th OIML International Conference of Legal Metrology will be held in Strasbourg, France, Wednesday, October 19 through Thursday, October 20, 2016.

ADDRESSES: Written comments should be submitted via email to ralph.richter@nist.gov or be mailed to the International Legal Metrology Program, Office of Weights and Measures, National Institute of Standards and Technology, 100 Bureau Drive, Mail Stop 2600, Gaithersburg, MD 20899-2600.

FOR FURTHER INFORMATION CONTACT: Mr. Ralph Richter, International Legal Metrology Program, Office of Weights and Measures, National Institute of Standards and Technology, 100 Bureau Drive, Mail Stop 2600, Gaithersburg, MD 20899-2600; telephone: 301-975-3997; fax: 301-975-8091; email: ralph.richter@nist.gov.

SUPPLEMENTARY INFORMATION:

Background

The International Organization of Legal Metrology (OIML) is an intergovernmental treaty organization in which the United States and 60 other nations are members. Its principal purpose is to harmonize national laws and regulations pertaining to testing and verifying the performance of legal measuring instruments used for equity in commerce, for public and worker health and safety, and for monitoring and protecting the environment. The harmonized results promote the international trade of measuring instruments and products affected by measurement.

The U.S. Department of State has delegated technical participation in OIML to NIST. NIST coordinates participation of U.S. manufacturers, users of weighing and measuring instruments, legal metrology officials and other U.S. stakeholders in the technical work of OIML by circulating draft voluntary standards (called Recommendations) and other OIML publications for comment. NIST also leads U.S. delegations to OIML Technical Meetings.

Additional Information

All parties with an interest in the work of the OIML are requested to review and submit comments on any or all of the 16 Recommendations and Documents that will be presented for ratification by the Conference. Any submitted comments will be reviewed and considered by NIST staff in the development of U.S. positions that will be put forward at the 15th Conference of OIML. NIST will consider all feedback and will implement it into the Conference as appropriate.

Each of the 16 Recommendations and Documents that will be presented for ratification by the Conference has already gone through a multi-year development and review process involving technical experts and legal metrology experts from the United States and around the world. Ratification by the Conference is the final step in this process. The Recommendations and Documents have been divided into two categories—Category 1: Those already approved by the International Committee of Legal Metrology (CIML) between 2013 and 2015, and Category 2: Those that are expected to be submitted directly to the Conference for ratification. Because the Recommendations and Documents in Category 2 have not yet received CIML approval, the comments received on these Recommendations and Documents are of additional importance to NIST staff. The 16 Recommendations and Documents and the OIML-member nations that held the convenership of the project group responsible for their development are listed below:

Category 1

• D11, “General requirements for measuring instruments—Environmental conditions” (Netherlands);

• R46-3, “Active electrical energy meters—Part 3: Test report format” (Australia);

• R49, “Water meters for cold potable water and hot water—Part 1: Metrological and technical requirements, Part 2: Test methods, and Part 3: Test report format” (United Kingdom);

• R50, “Continuous totalizing automatic weighing instruments (belt weighers)—Part 1: Metrological and technical requirements, Part 2: Test procedures, Part 3: Test report format (United Kingdom);

• R79, “Labeling requirements for prepackages” (South Africa);

• R100, “Atomic absorption spectrometer systems for measuring metal pollutants” (United States);

• R117, “Dynamic measuring systems for liquids other than water—Part 2: Metrological controls and performance tests, and Part 3: Test report format” (United States and Germany);

• R137-3, “Gas meters—Part 3: Test report format (Netherlands);

• R139, “Compressed gaseous fuels measuring systems for vehicles—Part 1: Metrological and technical requirements, Part 2: Metrological controls and performance tests, and Part 3: Test report format” (Netherlands);

• R144, “Instruments for continuous measuring CO and NOX in stationary source emissions” (Netherlands);

• R145, “Ophthalmic instruments—Impression and applanation tonometers” (Germany); and

• V1, “International vocabulary of terms in legal metrology (VIML)” (Poland).

Category 2

• R59, “Moisture meters for cereal grains and oilseeds” (United States and P.R. China);

• R87 “Quantity of product in prepackages” (South Africa);

• New Recommendation (not yet numbered) “Protein measuring instruments for cereal grains and oilseeds” (Australia); and

• New Recommendation (not yet numbered) “Standard blackbody radiator for the temperature range from −50 °C to 2500 °C” (Russian Federation).

Parties with an expressed interest in particular topics may obtain copies of the OIML Conference technical agenda, including copies of the Recommendations to be ratified, from the OIML International Conference Web site at http://strasbourg.oiml.org, at the OIML Web site at www.oiml.org, or from the NIST International Legal Metrology Program.

Authority: 15 U.S.C. 272(b).

Kevin Kimball,
NIST Chief of Staff.

[FR Doc. 2016-24076 Filed 10-4-16; 8:45 am]

BILLING CODE 3510-13-P